DEPARTMENT OF TRANSPORTATION

Maritime Administration

[Docket Number: MARAD-2000-8519]

Requested Administrative Waiver of the Coastwise Trade Laws

AGENCY: Maritime Administration, Department of Transportation.

ACTION: Invitation for public comments on a requested administrative waiver of the Coastwise Trade Laws for the vessel GINGERSNAP.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before January 16, 2001.

ADDRESSES: Comments should refer to docket number MARAD-2000-8519. Written comments may be submitted by hand or by mail to the Docket Clerk, U.S. DOT Dockets, Room PL-401, Department of Transportation, 400 7th St., S.W., Washington, D.C. 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Gordon Angell, U.S. Department of Transportation, Maritime Administration, MAR-832 Room 7201, 400 Seventh Street, S.W., Washington, DC 20590. Telephone 202-366-5129.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-Build Requirement

(1) Name of vessel and owner for which waiver is requested. Name of vessel: GINGERSNAP. Owner: Wesley Adams & Susan Adams.

(2) Size, capacity and tonnage of vessel. According to the applicant: “Length—26′, Beam 8′, Depth 6′, Capacity 12 passengers, Tonnage 6.7 tons (measured by taking: the dry weight of the vessel = 7,500 lb she draws 3ft of her 6′ hull thus displacing more than twice her weight 7,500 × 2 = 15000/2,240 lb = 6.696).”

(3) Intended use for vessel, including geographic region of intended operation and trade. According to the applicant: “This vessel would be used as a sight-seeing boat in the Port Ludlow, WA area. Giving tourists a chance to see the surrounding waters on a vessel similar to those used in the area at the turn of the century.” “The intended area of operation will include the north Puget Sound areas of Port Ludlow, north Hoods Canal, and Admiralty Inlet from Point No Point to Point Wilson (Washington State).”

(4) Date and Place of construction and (if applicable) rebuilding. Date of construction: Unknown. Place of construction: Unknown.

(5) A statement on the impact this waiver will have on other commercial passenger vessel operators. According to the applicant: “There are currently three Charter Services operating out of the Port Ludlow area: Captain Bry's Charters: Which I own. Currently operating a 26′ sailboat. Specializing in 2 hour Sailboat Cruises & Lessons. Captain Larry's Adventures: Operating a 26′ Orca Marine recreational fishing vessel specializing in day trips and fishing excursions. My new vessel will not compete at all with fishing (as it is not a fishing boat at all,) and as for tours * * * his boat cruises at 40knts and GINGERSNAP tops out at 9knts. Not really the same market. PCO Marine: Operating a 44′ Tolly Motor Yacht. PCO specializes in day cruises featuring creature comforts and food and beverage service. Luxury cruises. As for the effect that Gingersnap will have on his business, Captain Ottnes is retired and runs the charters as a hobby. Gingersnap will not take away anyone that wants luxury * * * she's comfortable, but not luxurious—and not fast. There are also charters available from Port Townsend (most notably Captain Jack's, a 45′—30 passenger aluminum tour boat,) but none that would profit from $10 cruises around Port Ludlow, or taking small groups to and from Port Townsend. Most of the available charter services are run as hobbies, and there are none listed in our local phone book that operate locally. (That's why I started doing it!)”

(6) A statement on the impact this waiver will have on U.S. shipyards. According to the applicant: “There should be no impact at all regarding builders from this waiver. Nobody builds launches like this anymore. There are still wooden boat builders, but the market for small launches of this sort is negligible. As for the shipyards * * * Gingersnap will give the local yards plenty of work due to her age. (It's the nature of wooden boats * * * they like to be worked on.)”

Dated: December 12, 2000.
By Order of the Maritime Administrator.
Joel C. Richard,
Secretary, Maritime Administration.

[FR Doc. 00-32012 Filed 12-14-00; 8:45 am]

BILLING CODE 4910-81-P